DEPARTMENT OF HOMELAND SECURITY

Federal Emergency Management Agency

[Docket ID FEMA-2024-0002; Internal Agency Docket No. FEMA-B-2462]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
California:
Los Angeles | City of Los Angeles (24-09-0592P). | The Honorable Karen Bass, Mayor, City of Los Angeles, 200 North Spring Street, Los Angeles, CA 90012. | Department of Public Works, 1149 South Broadway, Suite 810, Los Angeles, CA 90015. | https://msc.fema.gov/portal/advanceSearch. | Dec. 27, 2024 | 060137
Los Angeles | Unincorporated areas of Los Angeles County (24-09-0592P). | Lindsey Horvath, Chair, Los Angeles County Board of Supervisors, 500 West Temple Street, Room 821, Los Angeles, CA 90012. | Los Angeles County Watershed Management Department, 900 South Fremont Avenue, Alhambra, CA 91803. | https://msc.fema.gov/portal/advanceSearch. | Dec. 27, 2024 | 065043
Colorado:
Arapahoe | City of Aurora (23-08-0489P). | The Honorable Mike Coffman, Mayor, City of Aurora, 15151 East Alameda Parkway, Aurora, CO 80012. | Public Works Department, 15151 East Alameda Parkway, Suite 3200, Aurora, CO 80012. | https://msc.fema.gov/portal/advanceSearch. | Dec. 20, 2024 | 080002
Arapahoe | Unincorporated areas of Arapahoe County (23-08-0489P). | Carrie Warren-Gully, Chair, Arapahoe County Board of Commissioners, 5334 South Prince Street, Littleton, CO 80120. | Arapahoe County Public Works and Development Department, 6924 South Lima Street, Centennial, CO 80112. | https://msc.fema.gov/portal/advanceSearch. | Dec. 20, 2024 | 080011
Jefferson | City of Lakewood (23-08-0727P). | The Honorable Wendi Strom, Mayor, City of Lakewood, 480 South Allison Parkway, Lakewood, CO 80226. | Public Works Department, 470 South Allison Parkway, Lakewood, CO 80226. | https://msc.fema.gov/portal/advanceSearch. | Dec. 20, 2024 | 085075
Jefferson | Unincorporated areas of Jefferson County (23-08-0417P). | Lesley Dahlkemper, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Dec. 27, 2024 | 080087
Jefferson | Unincorporated areas of Jefferson County (23-08-0727P). | Lesley Dahlkemper, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Dec. 20, 2024 | 080087
Florida:
Bay | Unincorporated areas of Bay County (24-04-3454P). | Robert Majka, Manager, Bay County, 840 West 11th Street, Panama City, FL 32401. | Bay County Planning and Zoning Department, 840 West 11th Street, Panama City, FL 32401. | https://msc.fema.gov/portal/advanceSearch. | Jan. 2, 2025 | 120004
Collier | Unincorporated areas of Collier County (24-04-1528P). | Chris Hall, Chair, Collier County Board of Commissioners, 3299 Tamiami Trail East, Suite 303, Naples, FL 34112. | Collier County Growth Management Community Development Department, 2800 North Horseshoe Drive, Naples, FL 34104. | https://msc.fema.gov/portal/advanceSearch. | Dec. 24, 2024 | 120067
Monroe | Unincorporated areas of Monroe County (24-04-4132P). | The Honorable Holly Merrill Raschein, Mayor, Monroe County Board of Commissioners, 102050 Overseas Highway, Suite 234, Key Largo, FL 33037. | Monroe County Building Department, 2798 Overseas Highway, Suite 300, Key Largo, FL 35050. | https://msc.fema.gov/portal/advanceSearch. | Dec. 20, 2024 | 125129
Monroe | Village of Islamorada (24-04-4463P). | The Honorable Joseph Buddy Pinder III, Mayor, Village of Islamorada, 86800 Overseas Highway, Islamorada, FL 33036. | Building Department, 86800 Overseas Highway, Islamorada, FL 33036. | https://msc.fema.gov/portal/advanceSearch. | Dec. 27, 2024 | 120424
Orange | City of Orlando (24-04-3768P). | The Honorable Buddy Dyer, Mayor, City of Orlando, 400 South Orange Avenue, Orlando, FL 32801. | Public Works Department Engineering Division, 400 South Orange Avenue, 8th Floor, Orlando, FL 32801. | https://msc.fema.gov/portal/advanceSearch. | Jan. 2, 2025 | 120186
Palm Beach | City of Delray Beach (23-04-6363P). | Terrence Moore, Manager, City of Delray Beach, 100 Northwest 1st Avenue, Delray Beach, FL 33444. | Building Inspections Department, 100 Northwest 1st Avenue, Delray Beach, FL 33444. | https://msc.fema.gov/portal/advanceSearch. | Dec. 9, 2024 | 125102
Volusia | City of Daytona Beach (24-04-2270P). | The Honorable Derrick Henry, Mayor, City of Daytona Beach, 301 South Ridgewood Avenue, Daytona Beach, FL 32114. | City Hall, 301 South Ridgewood Avenue, Daytona Beach, FL 32114. | https://msc.fema.gov/portal/advanceSearch. | Dec. 13, 2024 | 125099
Illinois: DuPage | Village of Addison (24-05-0830P). | The Honorable Richard Veenstra, Mayor, Village of Addison, 1 Friendship Plaza, Addison, IL 60101. | Village Hall, 1 Friendship Plaza, Addison, IL 60101. | https://msc.fema.gov/portal/advanceSearch. | Dec. 27, 2024 | 170198
Indiana:
Marion | City of Indianapolis (24-05-1185P). | The Honorable Joe Hogsett, Mayor, City of Indianapolis, 200 East Washington Street, Suite 2501, Indianapolis, IN 46204. | City Hall, 1200 Madison Ave., Suite 100, Indianapolis, IN 46225. | https://msc.fema.gov/portal/advanceSearch. | Dec. 27, 2024 | 180159
Marion | Town of Speedway (24-05-1185P). | Jason Delisle, President, Town of Speedway Council, 5300 Crawfordsville Road, Speedway, IN 46224. | Town Hall, 1450 North Lynhurst Drive, Speedway, IN 46224. | https://msc.fema.gov/portal/advanceSearch. | Dec. 27, 2024 | 180162
Iowa: Black Hawk | City of Waterloo (22-07-1024P). | The Honorable Quentin Hart, Mayor, City of Waterloo, 715 Mulberry Street, Waterloo, IA 50703. | City Hall, 715 Mulberry Street, Waterloo, IA 50703. | https://msc.fema.gov/portal/advanceSearch. | Dec. 13, 2024 | 190025
Kansas:
Johnson | City of Olathe (23-07-0361P). | The Honorable John Bacon, Mayor, City of Olathe, 100 East Santa Fe Street, Olathe, KS 66061. | City Hall, 100 East Santa Fe Street, Olathe, KS 66061. | https://msc.fema.gov/portal/advanceSearch. | Dec. 18, 2024 | 200173
Johnson | Unincorporated areas of Johnson County (23-07-0361P). | Mike Kelly, Chair, Johnson County Board of Commissioners, 111 South Cherry Street, Suite 3300, Olathe, KS 66061. | Johnson County Communications Center, 11880 South Sunset Drive, Olathe, KS 66061. | https://msc.fema.gov/portal/advanceSearch. | Dec. 18, 2024 | 200159
Johnson | City of Overland Park (23-07-0829P). | The Honorable Curt Skoog, Mayor, City of Overland Park, 8500 Santa Fe Drive, Overland Park, KS 66212. | City Hall, 8500 Santa Fe Drive, Overland Park, KS 66212. | https://msc.fema.gov/portal/advanceSearch. | Dec. 18, 2024 | 200174
Michigan:
Kalamazoo | City of Kalamazoo (24-05-1071P). | The Honorable David Anderson, Mayor, City of Kalamazoo, 241 West South Street, Kalamazoo, MI 49007. | City Hall, 241 West South Street, Kalamazoo, MI 49007. | https://msc.fema.gov/portal/advanceSearch. | Dec. 16, 2024 | 260315
Oakland | City of Rochester Hills (24-05-0583P). | The Honorable Bryan Barnett, Mayor, City of Rochester Hills, 1000 Rochester Hills Drive, Rochester Hills, MI 48309. | City Hall, 1000 Rochester Hills Drive, Rochester Hills, MI 48309. | https://msc.fema.gov/portal/advanceSearch. | Dec. 9, 2024 | 260471
Minnesota:
Cottonwood | City of Windom (23-05-2934P). | The Honorable Dominic Jones, Mayor, City of Windom, P.O. Box 38, Windom, MN 56101. | City Hall, 444 9th Street, Windom, MN 56101. | https://msc.fema.gov/portal/advanceSearch. | Dec. 12, 2024 | 270090
Cottonwood | Unincorporated areas of Cottonwood County (23-05-2934P). | Kelly Thongvivong, Cottonwood County Coordinator, 28606 County Road 1, Comfrey, MN 56019. | Cottonwood County Environmental Department, 339 9th Street, Windom, MN 56101. | https://msc.fema.gov/portal/advanceSearch. | Dec. 12, 2024 | 270622
Nevada:
Washoe | City of Reno (24-09-0743P). | The Honorable Hillary Schieve, Mayor, City of Reno, 1 East 1st Street, Reno, NV 89505. | City Hall, 1 East 1st Street, Reno, NV 89505. | https://msc.fema.gov/portal/advanceSearch. | Dec. 27, 2024 | 320020
Washoe | Unincorporated areas of Washoe County (24-09-0743P). | Alexis Hill, Chair, Washoe County Board of Commissioners, 1001 East 9th Street, Reno, NV 89512. | Washoe County Administration Complex, 1001 East 9th Street, Reno, NV 89512. | https://msc.fema.gov/portal/advanceSearch. | Dec. 27, 2024 | 320019
New Jersey:
Bergen | Borough of Ho-Ho-Kus (23-02-0548P). | The Honorable Thomas Randall, Mayor, Borough of Ho-Ho-Kus, 333 Warren Avenue, Ho-Ho-Kus, NJ 07423. | Borough Hall, 333 Warren Avenue, Ho-Ho-Kus, NJ 07423. | https://msc.fema.gov/portal/advanceSearch. | Dec. 9, 2024 | 340044
Bergen | Village of Ridgewood (23-02-0548P). | The Honorable Paul Vagianos, Mayor, Village of Ridgewood, 131 North Maple Avenue, Ridgewood, NJ 07450. | Village Hall, 131 North Maple Avenue, Ridgewood, NJ 07450. | https://msc.fema.gov/portal/advanceSearch. | Dec. 9, 2024 | 340067
North Carolina:
Cumberland | Town of Hope Mills (24-04-0689P). | The Honorable Jessie Bellflowers, Mayor, Town of Hope Mills, 5770 Rockfish Road, Hope Mills, NC 28348. | Development and Planning Department, 5770 Rockfish Road, Hope Mills, NC 28348. | https://msc.fema.gov/portal/advanceSearch. | Nov. 20, 2024 | 370312
Cumberland | Unincorporated areas of Cumberland County (24-04-0689P). | Glenn Adams, Chair, Cumberland County Board of Commissioners, P.O. Box 1829, Fayetteville, NC 28301. | Cumberland County Engineering and Infrastructure Department, 130 Gillespie Street, Suite 214, Fayetteville, NC 28301. | https://msc.fema.gov/portal/advanceSearch. | Nov. 20, 2024 | 370076
Texas:
Denton | Town of Argyle (24-06-0767P). | The Honorable Rick Bradford, Mayor, Town of Argyle, P.O. Box 609, Argyle, TX 76226. | Town Hall, 308 Denton Street, Argyle, TX 76226. | https://msc.fema.gov/portal/advanceSearch. | Dec. 30, 2024 | 480775
Gillespie | City of Fredericksburg (24-06-1109P). | The Honorable Jeryl Hoover, Mayor, City of Fredericksburg, 126 West Main Street, Fredericksburg, TX 78624. | City Hall, 126 West Main Street, Fredericksburg, TX 78624. | https://msc.fema.gov/portal/advanceSearch. | Dec. 19, 2024 | 480252
Hidalgo | City of Edinburg (23-06-2507P). | The Honorable Ramiro Garza Jr., Mayor, City of Edinburg, 415 West University Drive, Edinburg, TX 78539. | Engineering Department, 415 West University Drive, Edinburg, TX 78539. | https://msc.fema.gov/portal/advanceSearch. | Dec. 9, 2024 | 480338
Travis | City of Austin (23-06-1884P). | T.C. Broadnax, Manager, City of Austin, P.O. Box 1088, Austin, TX 78767. | City Hall, 301 West 2nd Street, Austin, TX 78701. | https://msc.fema.gov/portal/advanceSearch. | Dec. 23, 2024 | 480624

[FR Doc. 2024-22066 Filed 9-25-24; 8:45 am]

BILLING CODE 9110-12-P